DEPARTMENT OF THE TREASURY

Alcohol and Tobacco Tax and Trade Bureau

27 CFR Part 9

[Notice No. 60]

RIN 1513-AB22

Proposed Establishment of the Snake River Valley Viticultural Area (2005R-463P)

AGENCY: Alcohol and Tobacco Tax and Trade Bureau, Treasury.

ACTION: Notice of proposed rulemaking.

SUMMARY: The Alcohol and Tobacco Tax and Trade Bureau proposes to establish the 8,263-square mile “Snake River Valley” viticultural area in southwestern Idaho and southeastern Oregon. We designate viticultural areas to allow vintners to better describe the origin of their wines and to allow consumers to better identify wines they may purchase. We invite comments on this proposed addition to our regulations.

DATES: We must receive written comments on or before September 15, 2006.

ADDRESSES: You may send comments to any of the following addresses:

• Director, Regulations and Rulings Division, Alcohol and Tobacco Tax and Trade Bureau, Attn: Notice No. 60, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this proposal by appointment at the TTB Information Resource Center, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N.A. Sutton, Regulations and Rulings Division, Alcohol and Tobacco Tax and Trade Bureau, 925 Lakeville St., No. 158, Petaluma, CA 94952; telephone 415-271-1254.

SUPPLEMENTARY INFORMATION:

Background on Viticultural Areas

TTB Authority

Section 105(e) of the Federal Alcohol Administration Act (the FAA Act, 27 U.S.C. 201 et seq.) requires that alcohol beverage labels provide consumers with adequate information regarding product identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Snake River Valley Petition

The wine grape growers of the Snake River Valley in Idaho, the Idaho Grape Growers and Wine Producers Commission, and the Idaho Department of Commerce and Labor, collectively referred to as the “petitioner,” have submitted a petition to establish the 8,263-square mile Snake River Valley viticultural area. The proposed viticultural area includes Ada, Adams, Boise, Canyon, Elmore, Gem, Gooding, Jerome, Owyhee, Payette, Twin Falls, and Washington Counties in southwestern Idaho and Baker and Malheur Counties in southeastern Oregon. The proposed boundary encompasses 15 wineries, 46 vineyards, and 1,107 acres of commercial vineyard production. We summarize below the supporting evidence presented with the petition.

Name Evidence

The petitioner provided multiple sources of “Snake River Valley” name evidence for the proposed viticultural area. References include winemaking and vineyards, agriculture, early regional exploration, and other name uses.

The Fall 2001 edition of Wine Press Northwest ran an article titled “Idaho Wineries at a Glance,” which says, “At first glance, the Snake River Valley seems an idyllic place to grow grapes* * *” and continues to explain that most of the grapes are grown in the Snake River Valley area west of Boise, Idaho. The February 17, 2005, edition of Wine Press Northwest ran an article describing the Snake River Valley as a beautiful area in southwestern Idaho. The article noted that most of the Idaho wineries and vineyards are at elevations between 1,500 and 2,500 feet in the western portion of the Snake River Valley.

The official Web site of the State of Idaho has a link to the history of Idaho, noting that in 1811 the Pacific Fur Company expedition explored the Snake River Valley and discovered the Boise Valley, which is within the boundary of the proposed viticultural area. An undated Sunset Magazine article, “The Snake River Valley of Idaho-Eastern Oregon,” discusses the significant agricultural production in the Snake River Valley of Idaho and eastern Oregon.

The USGS maps used to identify the proposed Snake River Valley viticultural area prominently identify the Snake River at the low elevations of the proposed viticultural area. The American Automobile Association Western States/Provinces map, dated February 2003 through May 2005, shows the Snake River flowing from its headwaters in Wyoming, through Utah, Idaho, and Oregon, and into Washington to where it joins the Columbia River near Pasco and Kennewick.

Boundary Evidence

The proposed Snake River Valley viticultural area covers portions of southwestern Idaho and southeastern Oregon. The basis for the proposed boundaries, the petitioner explains, is the extent of ancient Lake Idaho, a deep lake that filled the western part of the Snake River Valley approximately 4 million years ago. The proposed boundary line, with a maximum elevation of 1,040 meters, or 3,412 feet, surrounds the now dry, ancient Lake Idaho at the highest elevation conducive to viticulture, according to the petitioner.

The Snake River Plain, a crescent-shaped belt of lava and sediment ranging from 40 to 62 miles wide, extends about 372 miles in length across southern Idaho, according to the petitioner. The geology of the western portion of the Snake River Plain, the petitioner continues, has lower elevations and a rift-bounded basin, which contrast to the higher elevations of the eastern section of the Snake River Plain. Also, the colder and drier climate of the eastern area is not conducive to successful viticulture, according to the petitioner, unlike the warmer weather and lower elevations of ancient Lake Idaho.

An April 21, 1997, article, “Hydrogeologic Framework of the Boise Valley of Southwest Idaho,” by Spencer H. Wood, Department of Geosciences, Boise State University, describes the Snake River Plain as a great geologic bathtub with layers of mud sediment and interconnected layers of sand. The depth of the basin plain averages 3,500 feet but extends to 6,000 feet, according to the article. Also, in prehistoric times the ancient Lake Idaho was, in places, 800 feet deep and covered 5,000 square miles. In modern times this region is a flat, semiarid plain that is irrigated for agriculture with water from the Boise River and with ground water, according to the article.

Distinguishing Features

The proposed Snake River Valley viticultural area, the petitioner explains, includes a series of distinguishing features. Its topography includes elevations lower than the surrounding areas and a fault-bounded, rift basin geography, according to the petitioner. Also, the area is primarily underlain by sedimentary rock. The comparatively warm climate of the proposed Snake River Valley viticultural area, the petitioner adds, creates better grape-growing conditions than those in the surrounding higher elevations and the Snake River Valley in eastern Idaho.

Geology

The geologic history of the proposed Snake River Valley viticultural area, the petitioner states, includes flood basalts, northwest-trending structures, loess mantles, and outburst floods. The ancient Lake Idaho, according to the petitioner, extends 149 miles northwest to southeast, from the Oregon-Idaho State line to west of Twin Falls, Idaho, as a system of lakes and flood plains.

North of the proposed Snake River Valley viticultural area boundary line, the petitioner explains, are Cretaceous granites of the Idaho Batholith, Eocene volcanoes, older sedimentary rocks, and volcanic flows. Also, to the south of the proposed boundary line, volcanic rocks overlie the southern extension of the granite basement.

Regional Summary

The petitioner includes a map of the Snake River Plain Aquifer System and information modified from the “Ground Water Atlas of the United States: Idaho, Oregon, Washington, U.S. Geological Survey Hydrologic Atlas HA 730-H, 1994.” The map shows that the Western Plain, which is within the proposed Snake River Valley viticultural area, is underlain by aquifers in basaltic rock but mainly in unconsolidated (sedimentary) deposits. In contrast, the Eastern Plain, to the east of the proposed Snake River Valley viticultural area, is underlain predominantly by aquifers in Pliocene and younger basaltic rocks.

The petitioner includes a second map that documents the distribution of rock types in the Pacific Northwest States, based on information taken from the same USGS Hydrologic Atlas noted above. The proposed Snake River Valley viticultural area, according to the map, is underlain primarily by sedimentary rocks, distinguishing the area from basaltic and other igneous rocks in the surrounding regions.

Geography

Physical Features: The petitioner describes the ancient Lake Idaho as the physical focus and an important distinguishing feature of the proposed Snake River Valley viticultural area. Historically, the ancient Lake Idaho, the petitioner continues, was a trough-like structure of lakes. The proposed Snake River Valley viticultural area boundary encircles the now dry, ancient Lake Idaho, a low elevation, fault-bounded, rift basin with a relatively flat, sedimentary bottom, according to the petitioner. The surrounding areas, beyond the proposed boundary, have a mountainous topography with generally higher elevations.

Elevation: Low elevation, between 660 and 1,040 meters, or 2,165 and 3,412 feet, when compared to the surrounding mountains and the eastern portion of the Snake River Valley, is a significant distinguishing feature of the proposed Snake River Valley viticultural area, as shown on the USGS maps and described by the petitioner. Oxbow Dam, along the Snake River in Adams County, Idaho, lies at an elevation of 660 meters, or 2,165 feet, the petitioner explains, but the encircling proposed viticultural area boundary line generally adheres to an elevation of 1,040 meters, or 3,412 feet, according to the boundary outlined in the petition. The proposed boundary line deviates from its prescribed 1,040-meter elevation twice at the northernmost boundary on the McCall map and again along the western boundary of the Vale map. The petitioner explains that the 1,040-meter contour line, past the boundaries of the McCall and Vale maps, continues into regions not associated with the Snake River Valley or with viticulture. The region's viticulture, according to the petitioner, is successful between elevations of 664 and 950 meters, or 2,180 and 3,117 feet.

Mountains surrounding the western Snake River Valley region exceed 7,000 feet in elevation, especially to the east of the proposed viticultural area boundary line in the Boise National Forest, as shown on the Idaho City, Idaho, USGS map. The City of Twin Falls, Idaho, about 21/2 miles southeast of the proposed Snake River Valley viticultural area's eastern boundary line, as shown on the USGS Twin Falls, Idaho, map, lies at an elevation of 3,729 feet, or about 320 feet above the proposed viticultural area boundary line.

The petitioner provides three topographic profiles of the proposed Snake River Valley viticultural area drawn from various points of the compass. The three profiles include (1) California Mountain, Oregon, to Bruneau, Idaho, (2) Oreana, Idaho, to Danskin Peak, Idaho, and (3) Marsing, Idaho, to Emmett, Idaho. The profiles show the lower elevations of the ancient Lake Idaho basin in comparison to the surrounding higher mountain elevations beyond the proposed viticultural area boundary line. Payette, Idaho, is at an elevation of about 2,300 feet in the basin, but California Mountain, Oregon, reaches a height of approximately 5,150 feet, significantly higher than the proposed viticultural area boundary line.

Soils

The petitioner describes the soils of the proposed Snake River Valley viticultural area as being diverse and not a distinguishing feature, the soils having developed in various parent material, during various time frames, and under varying climatic conditions. The soils are broadly classified as Aridsols, the petitioner adds, and no single soil series or association is dominant.

Vineyards within the proposed Snake River Valley viticultural area are on soils that have underlying parent material derived from weathered sediment from the ancient Lake Idaho, according to the petitioner. At the surface are loess, sand, and, in slack water areas, flood-deposited silt, the petitioner explains. Typically, vineyards in the proposed area are on very shallow soils on slopes.

Climate

The distinguishing climatic features of the proposed Snake River Valley viticultural area, the petitioner states, include precipitation, air temperature, heat-unit accumulation, and growing season length. Climatic contributing factors, the petitioner continues, include the following: the region's topography, a basin depression with surrounding mountainous terrain; the continental inland location approximately 310 miles east of the Cascade Range; and the 43 degree north latitude. The petitioner adds that the proposed Snake River Valley viticultural area is in a climatic transition zone with both continental and maritime regimes. The combination of elevation and latitude of the proposed Snake River Valley viticultural area, the petitioner continues, creates a shorter grape-growing season than those in many other viticultural regions in the Western United States.

Climatic data for the proposed Snake River Valley viticultural area, often referred to as the West Snake River Valley, and for other grape-growing districts in the Western United States are noted in the climatic data table below.

The petitioner used online data from 1971 to 2000 compiled and archived by the National Climatic Data Center (NCDC), National Oceanic and Atmospheric Administration, for four areas within the proposed Snake River Valley viticultural area and for three viticultural regions outside of Idaho. The petitioner averaged the collected data for the four Idaho weather stations listed in the climatic data table below. The data are listed separately in the table for each station outside of Idaho, including Umpqua Valley, Oregon; Walla Walla Valley, Washington and Oregon; and Napa Valley, California, all of which are in established American viticultural areas.

Elevation, Location, and Climatic Data for Four Weather Stations Within Idaho and for Three Weather Stations in Western States, Outside of Idaho
[In the column headings, Elev. (m) means elevation in meters; MAT, mean annual temperature in degrees Celsius; MAP, mean annual precipitation in millimeters; GDD, growing (Celsius) degree-days; GSL, growing season length in days; XMT, 30-year extreme minimum temperature in degrees Celsius (with event year); and CNT, degrees of continental influence (mean annual temperature range that increases as the coastal marine influence decreases, in degrees Celsius)]
Weather stations in the proposed Snake River Valley viticultural area: | Elev. (m) | Location (lat./long.) | MAT (°C) | MAP (mm) | GDD | GSL | XMT 0°C | CNT (°C)
Parma Experiment Station, ID | 677 | 43°48′ N./116°57′ W. | 9.9 | 283 | 1,342 | 140 | −32 (1990) | 25
Weiser, ID | 722 | 44°15′ N./116°58′ W. | 11.0 | 307 | 1,637 | 136 | −34 (1990) | 27
Deer Flat Dam, ID | 765 | 43°35′ N./116°45′ W. | 11.6 | 258 | 1,626 | 165 | −30 (1989) | 24
Glenns Ferry, ID | 753 | 42°56′ N./115°19′ W. | 10.5 | 248 | 1,413 | 125 | −32 (1989) | 24
Averages of above four Idaho stations in WSRV | 729 | N/A | 10.8 | 274 | 1,504 | 142 | N/A | 25
Other Western Viticultural Areas (Reporting Station):
Umpqua Valley (Roseburg, OR) | 128 | 43°2′ N./123°36′ W. | 13.0 | 855 | 1,484 | 218 | 3 (1989) | 15
Walla Walla Valley (Walla Walla, WA) | 357 | 46°5′ N./118°28′ N. | 12.3 | 530 | 1,715 | 206 | −11 (1985) | 23
Napa Valley (Napa, CA) | 18 | 38°28′ N./122°27′ W. | 15.0 | 672 | 1,753 | 259 | 14 (1990) | 11

Precipitation: The proposed Snake River Valley viticultural area is a semiarid desert with minimal summer precipitation, the petitioner explains. The proposed viticultural area has a mean annual precipitation of 10 to 12 inches, the petitioner continues, occurring mostly in winter. The low precipitation rate combines with warm weather during the growing season, the petitioner notes, and the vineyards therefore need irrigation.

The Idaho weather stations within the proposed Snake River Valley viticultural area, according to the petitioner, receive about half the annual precipitation of the weather stations at Umpqua Valley, Oregon; Walla Walla Valley, Washington and Oregon; and Napa Valley, California. The petitioner explains that the lower annual precipitation of the proposed Snake River Valley viticultural area may be partially due to the rain shadows of the Cascade, Sierra Nevada, and Owyhee mountain ranges.

Temperature: The proposed Snake River Valley viticultural area's mean annual temperature, based on an average of the four Idaho stations monitored, is 51 degrees F, or 10.8 degrees C, according to the NCDC data. The midwinter mean temperatures are below 0 degrees C for several months, and potential vineyard damage is a hazard, the petitioner explains. The California, Oregon, and Washington weather stations listed in the climatic data table above have warmer average temperatures in winter. The differences in the extreme winter temperatures and the mean annual temperature ranges between the proposed Snake River Valley viticultural area and the three weather stations monitored in California, Oregon, and Washington and Oregon show significant variations in viticultural growing conditions.

The petitioner explains that the difference in winter temperatures between the colder proposed Snake River Valley viticultural area and the stations at Umpqua Valley, Oregon; and Walla Walla Valley, Washington and Oregon; and Napa Valley, California, results, to a great extent, from the higher elevation of the proposed viticultural area, which is between 660 and 1,040 meters, or 2,165 and 3,412 feet. Elevations of the other stations are Umpqua Valley, about 460 feet; Walla Walla Valley, 1,200 feet; and Napa Valley, 40 feet.

Regarding the seven weather stations, four in Idaho and three in other Western States, distances from the Pacific Ocean affect the amount of moderating, marine air temperatures they receive. Oceans tend to moderate air temperatures over land; hence, a wider annual temperature range indicates a greater degree of continental influence, or distance from an ocean. The proposed Snake River Valley viticultural area and the Walla Walla Valley both have, as a measure of continental influence, mean annual temperature ranges of about 25 degrees C. In comparison, the Umpqua Valley and the Napa Valley, both of which are closer to the Pacific Ocean and are at low elevations, have a smaller mean annual temperature range—about 15 degrees C.

The temperatures of the proposed Snake River Valley viticultural area, according to the petitioner, rise rapidly during the growing season, from June through August. The Umpqua Valley in Oregon and the proposed Snake River Valley viticultural area have similar, annual, total growing degree-days, as shown in the climatic data table above; but, they have between 200 and 250 fewer heat units than the Walla Walla Valley, Washington and Oregon, and the Napa Valley, California. Each degree that a day's mean temperature is above 50 degrees F, which is the minimum temperature required for grapevine growth, is counted as 1 degree-day (see “General Viticulture,” Albert J. Winkler, University of California Press, 1975).

The proposed Snake River Valley viticultural area growing season length correlates to the frost-free period from about May 10 to September 29 annually, according to the petitioner. The total measurement of annual viticultural growth is between 64 and 117 days less than in the Walla Walla Valley, Washington and Oregon; Umpqua Valley, Oregon; and Napa Valley, California, viticultural areas.

Boundary Description

See the narrative boundary description of the petitioned-for viticultural area in the proposed regulatory text published at the end of this notice.

Maps

The petitioner provided the required maps, and we list them below in the proposed regulatory text.

Impact on Current Wine Labels

Part 4 of the TTB regulations prohibits any label reference on a wine that indicates or implies an origin other than the wine's true place of origin. If we establish this proposed viticultural area, its name, “Snake River Valley”, will be recognized under 27 CFR 4.39(i)(3) as a name of viticultural significance. The text of the new regulation would clarify this point. Consequently, wine bottlers using “Snake River Valley” in a brand name, including a trademark, or in another label reference as to the origin of the wine, will have to ensure that the product is eligible to use the viticultural area's name as an appellation of origin. On the other hand, we do not believe that any single part of the proposed viticultural area name standing alone, such as “Snake” or “Snake River”, would have viticultural significance if the new area is established. Accordingly, the proposed part 9 regulatory text set forth in this document specifies only the full “Snake River Valley” name as a term of viticultural significance for purposes of part 4 of the TTB regulations.

For a wine to be eligible to use as an appellation of origin a viticultural area name or other term specified as being viticulturally significant in part 9 of the TTB regulations, at least 85 percent of the wine must be derived from grapes grown within the area represented by that name or other term, and the wine must meet the other conditions listed in 27 CFR 4.25(e)(3). If the wine is not eligible to use the viticultural area name or other term as an appellation of origin and that name or term appears in the brand name, then the label is not in compliance and the bottler must change the brand name and obtain approval of a new label. Similarly, if the viticultural area name or other term appears in another reference on the label in a misleading manner, the bottler would have to obtain approval of a new label. Accordingly, if a new label or a previously approved label uses the name “Snake River Valley” for a wine that does not meet the 85 percent standard, the new label will not be approved, and the previously approved label will be subject to revocation, upon the effective date of the approval of the Snake River Valley viticultural area.

Different rules apply if a wine has a brand name containing a viticultural area name that was used as a brand name on a label approved before July 7, 1986. See 27 CFR 4.39(i)(2) for details.

Public Participation

Comments Invited

We invite comments from interested members of the public on whether we should establish the proposed viticultural area. We are also interested in receiving comments on the sufficiency and accuracy of the name, boundary, climatic, and other required information submitted in support of the petition. Please provide any available specific information in support of your comments.

TTB is particularly interested in comments on the appropriateness of the proposed east boundary line, since the Snake River Valley, according to the Geographic Names Information System, extends into southeastern Idaho. The petitioner explains that the region east of Twin Falls, Idaho, is excluded, based on its being at higher elevations and having a colder, drier winter climate that could result in severe annual vineyard damage. The petitioner also explains that current place name recognition for the Snake River Valley is predominantly within southwestern Idaho and southeastern Oregon, the region of the proposed viticultural area. In this respect, we are interested in knowing whether an alternative name, such as West Snake River Valley, would better meet the name-evidence requirement of 27 CFR 9.3(b).

Because of the potential impact of the establishment of the proposed Snake River Valley viticultural area on wine labels that include the words “Snake River Valley” as discussed above under “Impact on Current Wine Labels,” we are particularly interested in comments regarding whether there will be a conflict between the proposed area name and currently used brand names. If a commenter believes that a conflict will arise, the commenter should describe the nature of that conflict, including any negative economic impact that approval of the proposed viticultural area will have on an existing viticultural enterprise. We are also interested in receiving suggestions for ways to avoid any conflicts, for example by adopting a modified or different name for the viticultural area.

Although TTB believes that only the full “Snake River Valley” name should be considered to have viticultural significance upon establishment of the proposed new viticultural area, we also invite comments from those who believe that “Snake” or “Snake River” standing alone would have viticultural significance upon establishment of the area. Comments in this regard should include documentation or other information supporting the conclusion that use of “Snake” or “Snake River” on a wine label could cause consumers and vintners to attribute to the wine in question the quality, reputation, or other characteristic of wine made from grapes grown in the proposed Snake River Valley viticultural area.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-rulemaking portal: To submit comments to us via the Federal e-rulemaking portal, visit http://www.regulations.gov and follow the instructions for submitting comments.

You may also write to the Administrator before the comment closing date to ask for a public hearing. The Administrator reserves the right to determine whether to hold a public hearing.

Confidentiality

All submitted material is part of the public record and subject to disclosure. Do not enclose any material in your comments that you consider confidential or inappropriate for public disclosure.

Public Disclosure

You may view copies of this notice, the petition, the appropriate maps, and any comments we receive by appointment at the TTB Information Resource Center at 1310 G Street, NW., Washington, DC 20220. You may also obtain copies at 20 cents per 8.5- by 11-inch page. Contact our information specialist at the above address or by telephone at 202-927-2400 to schedule an appointment or to request copies of comments.

For your convenience, we will post this notice and any comments we receive on this proposal on the TTB Web site. We may omit voluminous attachments or material that we consider unsuitable for posting. In all cases, the full comment will be available in the TTB Information Resource Center. To access the online copy of this notice and the submitted comments, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Rulings Division drafted this notice.

List of Subjects in 27 CFR Part 9

Wine.

Proposed Regulatory Amendment

For the reasons discussed in the preamble, we propose to amend title 27, chapter 1, part 9, Code of Federal Regulations, as follows:

PART 9—AMERICAN VITICULTURAL AREAS

1. The authority citation for part 9 continues to read as follows:

Authority: 27 U.S.C. 205.

Subpart C—Approved American Viticultural Areas

2. Subpart C is amended by adding a new § 9.__ to read as follows:

§ 9. Snake River Valley.

(a) Name. The name of the viticultural area described in this section is “Snake River Valley”. For purposes of part 4 of this chapter, “Snake River Valley” is a term of viticultural significance.

(b) Approved maps. The appropriate maps for determining the boundary of the Snake River Valley viticultural area are 14 United States Geological Survey 1:100,000 scale, metric topographic maps. They are titled, (1) Baker, Oregon-Idaho, 1981;

(2) McCall, Idaho-Oregon, 1980, Photoinspected 1990;

(3) Weiser, Idaho-Oregon, 1980, Photoinspected 1990;

(4) Boise, Idaho-Oregon, 1981;

(5) Idaho City, Idaho, 1982;

(6) Murphy, Idaho, 1986;

(7) Mountain Home, Idaho, 1990;

(8) Fairfield, Idaho, 1978;

(9) Twin Falls, Idaho, 1979;

(10) Glenns Ferry, Idaho, 1992;

(11) Triangle, Idaho, 1990;

(12) Mahogany Mountain, Idaho, 1978;

(13) Vale, Oregon-Idaho; 1993; and

(14) Brogan, Oregon-Idaho, 1980

(c) Boundary. The Snake River Valley viticultural area is located in Ada, Adams, Boise, Canyon, Elmore, Gem, Gooding, Jerome, Owyhee, Payette, Twin Falls, and Washington Counties in southwestern Idaho and in Baker and Malheur Counties in southeastern Oregon. The boundary of the Snake River Valley viticultural area is as described below:

(1) The beginning point is on the Baker map in Oregon at the intersection of the 1,040-meter contour line and Interstate 84, between Pleasant Valley and Oxman in Baker County, T10S/R42E;

(2) From the beginning point proceed east following the 1,040-meter contour line along the eastern side of the Burnt River Valley, then crossing over to the Brogan map, proceed northerly along the western side of the Snake River Valley and, crossing back over to the Baker map, proceed westerly along the southern side of the Powder River Valley to the 1,040-meter contour line's intersection with the northern boundary of Baker County, T7S/R40E, on the Baker map;

(3) Proceed 7.5 miles straight east along the northern boundary of Baker County to its intersection with the 1,040-meter line east of Oregon State Road 203 and three unnamed creeks, T7S/R41E, on the Baker map;

(4) Proceed generally southeast along the 1,040-meter contour line onto the McCall map, to its intersection with the 45 degree north latitude, to the immediate west of North Creek in the Hell's Canyon National Recreation Area, T6S/R47E, on the northern border of the McCall map;

(5) Proceed straight east along the 45 degree north latitude to its intersection with the 1,040-meter contour line, to the immediate east of North Creek, T6S/R47E, on the McCall map;

(6) Follow the 1,040-meter contour line, which encircles the northern portion of McLain Gulch, to its second intersection with the 45 degree north longitude, west of the Snake River in Baker County, Oregon, T6S/R48E, on the McCall map;

(7) Proceed straight east along the 45 degree north latitude to its intersection with the 1,040-meter contour line, to east of the Snake River and Indian Creek in Adams County, Idaho, T6S/R48W, on the McCall map;

(8) Continue following the 1,040-meter contour line in a clockwise rotation on the McCall map, proceeding southerly on the southeast side of the Snake River, northeasterly north of the Crooked River, crossing the Crooked River, T7S/R3W, proceeding southwesterly south of the Crooked River, crossing Brownlee Creek, T16N/R4W, proceeding generally southwesterly onto the Baker map, continuing southwesterly, crossing Sturgill Creek, T15N/R6W, and Dennett Creek, T14N/R6W, proceeding onto the Brogan map, proceeding southeasterly, crossing Rock Creek, T13N/R6W, proceeding onto the Weiser map, proceeding northeasterly, north of the Mann Creek State Recreation Area, crossing Mann Creek, T13N/R5W, continuing northeasterly onto the McCall map;

(9) Continue following the 1,040-meter contour line in a clockwise rotation on the McCall map, proceeding northeasterly, crossing Pine Creek, T15N/R4W, and Hornet Creek, T8S/R2W, passing west of the Payette National Forest, proceeding southerly, passing east of Mesa, onto the Weiser map, proceeding southerly, crossing Crane Creek, T12N/R1W, turning westerly, rounding north of the Paddock Valley Reservoir, crossing Willow Creek, T9N/R1W, turning southerly onto the Boise map, looping southerly and northerly north of the Black Canyon Reservoir and moving back onto the Weiser map;

(10) Continue following the 1,040-meter contour line in a clockwise rotation on the Weiser map, proceeding northerly, crossing Squaw Creek, T12N/R1E, and then southerly, crossing Cottonweed Creek, T11N/R1E, and then southerly again onto the Boise map, rounding south of South Mountain, back onto the Weiser map, proceeding northeasterly north of the Payette River, crossing the North Fork Payette River, T10N/R3E, then proceeding southwesterly south of the Payette River, onto the Boise map, proceeding generally southerly, crossing Cartwright Creek, T6N/R2E, and proceeding westerly and southeasterly towards Lucky Peak Lake, and then turning northward onto the Idaho City map;

(11) Continue following the 1,040-meter contour line in a clockwise rotation on the Idaho City map, proceeding northerly, crossing Grimes and Mores Creek, T5N/R4E, and then proceeding southerly to Lucky Peak Lake, turning northeasterly north of the Lucky Peak Lake, Arrowrock Reservoir, and Middle Fork Boise River to T4N/R7E, crossing the Middle Fork Boise River and proceeding southwesterly south of the Middle Fork Boise River, to the South Fork Boise River, crossing the South Fork Boise River, T2N/R6E, proceeding onto the Boise map proceeding southwesterly south of Lucky Peak Lake onto the Murphy map;

(12) Continue following the 1,040-meter contour line in a clockwise rotation southeasterly on the Murphy map to the Mountain Home map, proceeding southeasterly, crossing Canyon Creek, passing north of Mountain Home Reservoir, crossing King Hill Creek, onto the Fairfield map, proceeding easterly, crossing Clover Creek, T4S/R13E, proceeding southerly onto the Twin Falls map;

(13) Continue following the 1,040-meter contour line in a clockwise rotation on the Twin Falls map, proceeding southeasterly to the Snake River, T9S/R14E, following north of the Snake River and crossing at T10S/R18E, northeast of Twin Falls, proceeding westerly south of the Snake River to the Salmon River, following east of the Salmon River and crossing at T10S/R13E, proceeding northerly west of the Salmon River and the Hagerman Wildlife Management Area, proceeding west onto the Glenns Ferry map;

(14) Continue following the 1,040-meter contour line in a clockwise rotation on the Glenns Ferry map, proceeding generally west to Rosevear Gulch, turning south between Rosevear Gulch and Pilgrim Gulch, near Deadman Creek, heading northwesterly, continuing through the Bruneau Desert, crossing Hole Creek in Pot Canyon and proceeding to Bruneau Canyon, proceeding southeasterly east of Bruneau Canyon, crossing Bruneau Canyon, T10S/R7E, proceeding west of Bruneau Canyon then west onto the Triangle map;

(15) Continue following the 1,040-meter contour line in a clockwise rotation on the Triangle map, heading northwesterly, crossing Shoofly Creek and Alder Creek, T6S/R1W, onto the Murphy map, continuing northwesterly to Sinker Creek, crossing Sinker Creek, T4S/R2W, continuing northwesterly to Jump Creek, crossing Jump Creek, T1N/R5W, proceeding northwesterly onto the Boise map, crossing its southwestern corner, T2N/R5W, onto the Mahogany Mountain map;

(16) Continue following the 1,040-meter contour line in a clockwise rotation onto the Mahogany Mountain map, proceeding westerly onto the Vale map, generally northwesterly then southwesterly onto the Mahogany Mountain map, proceeding southwest, west, and generally north onto the Vale map, passing through Succor Creek State Recreational Area, returning to the Mahogany Mountain map, and, passing east of McIntyre Ridge, crossing Succor Creek, T1N/R46E, proceeding northerly back onto the Vale map;

(17) Continue following the 1,040-meter contour line in a clockwise rotation on the Vale map, proceeding northerly east of Owyhee Ridge and Long Draw to north of Lake Owyhee, southwesterly and southerly south of Lake Owyhee onto the Mahogany Mountain map, southwesterly south of Lake Owyhee, the Owyhee River, and Owyhee Canyon, crossing Owyhee Canyon at T29S/R41E, proceeding northerly west of Owyhee Canyon, northeasterly west of Owyhee River and Owyhee Reservoir, and northerly onto the Vale map;

(18) Continue following the 1,040-meter contour line in a clockwise rotation on the Vale map, proceeding generally northerly to T20S/R42E, southwesterly east of Cottonwood Creek, crossing Cottonwood Creek, T22S/R40E, proceeding north to the Malheur River, following the Malheur River westerly to the intersection of the 1,040-meter contour line and the 118 degree longitude in Malheur County, Oregon, T21S/R38E, on the western border of the Vale map;

(19) Proceed straight north along the 118 degree longitude to its intersection with the 1,040 meter contour line, north of the Malheur River, T20S/R38E, proceeding easterly north of the Malheur River to Hog Creek, crossing Hog Creek, T20S/R40E, and proceeding northerly on the Vale map;

(20) Continue following the 1,040-meter contour line in a clockwise rotation, crossing onto the Brogan map, proceeding easterly, northerly, and westerly to and around Malheur Reservoir, T14S/R41E, proceeding easterly to Cottonwood Gulch then northerly to Dixie Creek, crossing Dixie Creek, T12S/RR41E, proceeding easterly and northerly onto the Baker map;

(21) Continue following the 1,040-meter contour line in a clockwise rotation on the Baker map, proceeding westerly south of the Burnt River, crossing the Burnt River, T10S/R41E, proceeding easterly north of the Burnt River to Gravel Pits, then northerly, returning to the beginning point.

Signed: June 29, 2006.
John J. Manfreda,
Administrator.

[FR Doc. E6-11078 Filed 7-14-06; 8:45 am]

BILLING CODE 4810-31-P